ENVIRONMENTAL PROTECTION AGENCY

[FRL-8267-1]

Coastal Elevations and Sea Level Rise Advisory Committee Meeting

AGENCY: Environmental Protection Agency (EPA).

ACTION: Notice of meeting.

SUMMARY: Under the Federal Advisory Committee Act (Pub. L. 92-463), EPA gives notice of a public meeting of the Coastal Elevations and Sea Level Rise Advisory Committee (CESLAC).

Date and Time: The meeting will be held on Monday, January 29, 2007, from 1:15 p.m. to 5 p.m. Registration will begin at 12:30 p.m.

ADDRESSES: The meeting will be held at 1310 L St., NW., Washington, DC, Rooms 152 and 154.

FOR FURTHER INFORMATION CONTACT: Jack Fitzgerald, Designated Federal Officer, Climate Change Division, Mail Code 6207J, Office of Atmospheric Programs, Environmental Protection Agency, 1200 Pennsylvania Avenue, NW., Washington, DC 20460; e-mail address: Fitzgerald.jack@epa.gov, telephone number (202) 343-9336, fax: (202) 343-2337.

SUPPLEMENTARY INFORMATION: The purpose of CESLAC is to provide advice on the conduct of a study titled Coastal Elevations and Sensitivity to Sea Level Rise to be conducted as part of the U.S. Climate Change Science Program (CCSP). This study will give particular attention to the coastal area of the U.S. between the states of New York and North Carolina. A copy of the Committee Charter is available at http://www.fido.gov/facadatabase/. This is the first meeting of CESLAC. The agenda will include information, presentations and discussions on the purpose of CESLAC, the purpose of the meeting, the future schedule, public participation, the study, EPA's information quality requirements and procedures. One hour will be allocated for statements by members of the public. Individuals who are interested in making statements should inform Jack Fitzgerald of their interest in advance of the meeting and provide a copy of their statements for the record. Individuals will be scheduled in the order that their statements of intent to present are received. A minimum of three minutes will be provided for each statement. The maximum amount of time will depend on the number of statements to be made. All statements, regardless of whether there is sufficient time to present them orally, will be included in the record and considered by the committee. For information on access or services for individuals with disabilities, please contact Jack Fitzgerald at either the phone number or e-mail address provided under “FOR FURTHER INFORMATION CONTACT.” To request accommodation of a disability, please also contact Jack Fitzgerald, preferably at least ten days prior to the meeting, to give EPA as much time as possible to process your request.

List of Subjects

Environmental protection.

Dated: January 3, 2007.
Jack Fitzgerald,
Designated Federal Officer.

[FR Doc. E7-90 Filed 1-8-07; 8:45 am]

BILLING CODE 6560-50-P